DEPARTMENT OF ENERGY

Federal Energy Regulatory Commission

[Docket No. NJ03-3-000]

Bonneville Power Administration; Notice of Filing

July 15, 2003.

Take notice that on July 7, 2003, the Bonneville Power Administration (Bonneville) filed a Petition for a Declaratory Order Maintaining Reciprocity Approval of Its Open Access Transmission Tariff (OATT) and an Exemption In Lieu of a Filing Fee with the Federal Energy Regulatory Commission (Commission). Bonneville states that it has revised sections 13.2, 14.2, 17.1 and 18.1 of its OATT to change its procedure for awarding short-term transmission requests. Bonneville explains that these revisions eliminate the right of first refusal to match competing requests for short-term transmission service and adopt a first-come, first-served approach. Bonneville further explains that it has also revised Attachment K to its OATT in accordance with the 2004 Rate Case Settlement. Additionally, Bonneville states that it has refiled its entire OATT to voluntarily adopt the Order No. 614 pagination standards, as applicable.

Bonneville states that the Commission found its OATT to be an acceptable reciprocity transmission tariff, effective October 1, 2001, by Order Granting Petition for Declaratory Order, 94 FERC 61,317 (March 19, 2001) and Order on Tariff Amendment, 96 FERC 62,337 (September 28, 2001). Bonneville further states that it now seeks a declaratory order finding that its OATT, as revised by this filing, continues to maintain its reciprocity status. Bonneville has also requested an expedited approval process, making the changes effective as of August 15, 2003.

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: July 28, 2003.

Magalie R. Salas,
Secretary.

[FR Doc. 03-18403 Filed 7-18-03; 8:45 am]

BILLING CODE 6717-01-P